GENERAL SERVICES ADMINISTRATION

[OMB Control No. 3090-0007; Docket No. 2021-0001; Sequence No. 2]

Submission for OMB Review; General Services Administration Acquisition Regulation; Contractor's Qualifications and Financial Information, GSA Form 527

AGENCY: Office of Acquisition Policy, General Services Administration (GSA).

ACTION: Notice of request for comments regarding an extension to an existing OMB clearance.

SUMMARY: Under the provisions of the Paperwork Reduction Act, the Regulatory Secretariat Division will be submitting to the Office of Management and Budget (OMB) a request to review and approve an extension of a previously approved information collection requirement regarding Contractor's Qualifications and Financial Information through GSA Form 527.

DATES: Submit comments on or before: July 26, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Bryon Boyer, Procurement Analyst, Office of Governmentwide Policy, by phone at 817-850-5580 or by email at gsarpolicy@gsa.gov.

SUPPLEMENTARY INFORMATION:

A. Purpose

The General Services Administration will be requesting that OMB extend information collection 3090-0007, concerning GSA Form 527, Contractor's Qualifications and Financial Information. This form is used to determine the financial capability of prospective contractors as to whether they meet the financial responsibility standards in accordance with the Federal Acquisition Regulation (FAR) 9.103(a) and 9.104-1 and also the General Services Administration Acquisition Manual (GSAM) 509.105-1(a).

B. Annual Reporting Burden

Respondents: 1,733.

Responses per Respondent: 1.2.

Total Responses: 2,080.

Hours per Response: 1.5.

Total Burden Hours: 3,120.

C. Public Comments

A notice was published in the Federal Register at 86 FR 20159 on April 16, 2021. No comments were received.

Obtaining Copies of Proposals: Requesters may obtain a copy of the information collection documents from the Regulatory Secretariat Division by calling 202-501-4755 or emailing GSARegSec@gsa.gov. Please cite OMB Control No. 3090-0007; Contractor's Qualifications and Financial Information, GSA Form 527, in all correspondence.

Jeffrey A. Koses,
Senior Procurement Executive, Office of Acquisition Policy, Office of Government-wide Policy.

[FR Doc. 2021-13314 Filed 6-23-21; 8:45 am]

BILLING CODE 6820-61-P